NATIONAL COUNCIL ON DISABILITY

Sunshine Act Meetings (by Conference Call)

DATE AND TIMES: June 25, 2010, 1 p.m.-3 p.m.

PLACE: NCD, 1331 F Street, NW., Suite 850, Washington, DC 20004.

STATUS: Open to the public.

MATTERS TO BE CONSIDERED: National Summit on Disability Policy 2010.

CONTACT PERSON FOR MORE INFORMATION: Mark Quigley, Director of Communications, NCD, 1331 F Street, NW., Suite 850, Washington, DC 20004; 202-272-2004, 202-272-2074 (TTY).

Dated: June 10, 2010.
Joan M. Durocher,
Executive Director.

[FR Doc. 2010-14828 Filed 6-15-10; 4:15 pm]

BILLING CODE 6820-MA-P